DEPARTMENT OF ENERGY

Advance Notice of Intent To Prepare a Programmatic Environmental Impact Statement for the Designation of Energy Corridors on Federal Lands in 39 States, Amend Relevant Agency Land Use or Equivalent Plans and Notice of Floodplain and Wetlands Involvement

AGENCY: Department of Energy (DOE), Office of Electricity Delivery and Energy Reliability (OE).

ACTION: Advance Notice of Intent.

SUMMARY: Section 368(b) of the Energy Policy Act of 2005 (the Act), Public Law 109-58 (August 8, 2005), directs the Secretaries of Agriculture, Commerce, Defense, Energy, and the Interior (Secretaries) to identify corridors (Section 368 corridors) on Federal lands in 39 States, other than the 11 contiguous Western States (Arizona, California, Colorado, Idaho, Montana, Nevada, New Mexico, Oregon, Utah, Washington, and Wyoming) (11 Western States) that might be used for oil, gas and hydrogen pipelines and electricity transmission and distribution facilities. Section 368 further requires the Secretaries to identify these Section 368 corridors by August 8, 2009, and schedule prompt action to designate and incorporate the Section 368 corridors into applicable land use or equivalent plans. The designation must specify the centerline, width and compatible uses of the Section 368 corridors.

In proposing how and where to designate Section 368 corridors, the Secretaries must take into account the need for upgraded and new electricity transmission and distribution facilities to (1) Improve reliability; (2) relieve congestion; and (3) enhance the capability of the national grid to deliver electricity. The Section 368 corridor designations would not authorize development but would serve as a planning tool to identify the preferred locations for siting potential energy transport projects in the future.

DOE, the Department of the Interior (DOI), the Department of Agriculture (USDA) and the Department of Defense (DOD) (the Agencies) intend to prepare a programmatic environmental impact statement (PEIS), entitled Designation of Energy Corridors on Federal Land in 39 States (DOE/EIS-0406), to identify any environmental impacts that may result from the proposed action of designating Section 368 corridors and incorporating them into applicable land use or equivalent plans. The Agencies also will identify the environmental impacts from the range of reasonable alternatives to the proposed action. DOE and DOI, through the Bureau of Land Management (BLM), intend to be co-lead agencies for this effort; USDA, through the United States Forest Service (FS), and DOD intend to participate as cooperating agencies.

DOE is issuing this Advance Notice of Intent (ANOI), pursuant to 10 CFR 1021.311(b), in order to request early comments and suggestions from Federal and State agencies, Tribal and local governments, the public, and other interested parties. Comments and suggestions will assist the Agencies in identifying the location of potential Section 368 corridors on Federal lands in 39 States, the preliminary range of reasonable alternatives, screening criteria, and the potential environmental impacts related to the Agencies' designation of Section 368 corridors on Federal land in 39 States. The early comments on the potential location of Section 368 corridors will inform DOE's decision on where to hold scoping meetings.

Because the proposed action may involve actions in a floodplain or wetland, the draft PEIS would include a floodplain and wetlands assessment, as required by 10 CFR 1022, and the final PEIS or agency records of decision would include a floodplain statement of findings. The Agencies will prepare the PEIS in accordance with the National Environmental Policy Act (NEPA); the Council on Environmental Quality's NEPA implementing regulations, 40 CFR 1500-1508; DOE's NEPA implementing regulations promulgated pursuant to NEPA, 10 CFR 1021; BLM's planning regulations, 43 CFR 1600; and applicable FS planning regulations to amend land use plans.

DATES: The public comment period for this ANOI starts with the publication of this notice in the Federal Register and will continue until December 2, 2008. Comments received or postmarked after that date will be considered to the extent practicable. The Agencies plan to issue a Notice of Intent (NOI) for this PEIS following analysis of comments and suggestions received on the ANOI. After the NOI is issued, the Agencies will conduct public scoping meetings to assist in further defining the scope of the PEIS and to identify significant issues to be addressed. The dates and locations of all scoping meetings will be announced in the NOI, subsequent Federal Register notices, and in local media.

ADDRESSES: Comments or suggestions on the scope of the PEIS and the proposed action should be sent to: Brian Mills at the U.S. Department of Energy, Office of Electricity Delivery and Energy Reliability (OE-20), 1000 Independence Avenue, SW., Washington, DC 20585; phone 202-586-8267; facsimile at 202-586-8008; or by electronic mail at Brian.Mills@hq.doe.gov.

FOR FURTHER INFORMATION CONTACT: To request further information about this PEIS, the public scoping meetings, or to be placed on the PEIS distribution list, use any of the methods listed under ADDRESSES above. For general information on the DOE NEPA process please contact: Carol M. Borgstrom, Director, Office of NEPA Policy and Compliance (GC-20), U.S. Department of Energy, 1000 Independence Avenue, SW., Washington, DC 20585-0103; phone 202-586-4600; leave a message at 800-472-2756; or facsimile at 202-586-7031. Further information about this effort, including maps showing Federal lands and existing infrastructure, may be found on the project Web site at eastcorridoreis.anl.gov.

SUPPLEMENTARY INFORMATION: The Department of Energy (DOE) hereby provides advance notice that several Federal Agencies intend to prepare a Programmatic Environmental Impact Statement (PEIS) to analyze the environmental impacts from the proposed action and the range of reasonable alternatives for implementing Section 368 of the Energy Policy Act of 2005, entitled Energy Right-of-Way Corridors on Federal Land. The Agencies intend to prepare this PEIS pursuant to NEPA, the CEQ's NEPA implementing regulations, 40 CFR 1500-1508; DOE's NEPA implementing regulations promulgated pursuant to NEPA, 10 CFR 1021; BLM's planning regulations, 43 CFR 1600; and applicable FS planning regulations to amend land use plans. DOE issues this ANOI pursuant to 10 CFR 1021.311(b).

Background and Purpose and Need for Agency Action

As outlined below, the purpose and need for the Agency action is to implement Section 368 of EPAct 2005. Recognizing the shortcomings in the nation's energy infrastructure Congress required in Section 368(a) that the Agencies and the Department of Commerce (1) Designate, under their respective authorities, corridors for oil, gas, and hydrogen pipelines and electricity transmission and distribution facilities on Federal land* * *; (2) perform any environmental reviews that may be required to complete the designation of such corridors; and (3) incorporate the designated corridors into the relevant land use and resource management plans or equivalent plans.

Congress placed the highest priority on implementing Section 368 with respect to the 11 contiguous Western States. The Agencies issued a Draft PEIS for the Designation of Corridors on Federal Land in the 11 Western States (DOE/EIS-0386) on November 16, 2007, and are currently preparing a Final PEIS. The Notice of Availability for the Draft PEIS is published on November 16, 2007 (72 FR 64591).

The PEIS at issue here is for implementing Section 368 with respect to the other 39 States (39 States). Section 368(b) of the Act requires the Agencies and the Department of Commerce to identify corridors in the 39 States by August 8, 2009, and then to schedule prompt action to identify, designate, and incorporate those corridors in the applicable land use plans. Pursuant to Section 368(e), the designation must specify the corridor's centerline, width and compatible uses.

Further, Section 368(c)(2) requires “The Secretaries, in consultation with the Federal Energy Regulatory Commission, affected utility industries, and other interested parties, shall establish procedures under their respective authorities that * * * (2) expedite applications to construct or modify oil, gas and hydrogen pipelines and electricity transmission and distribution facilities within such corridors, taking into account prior analyses and environmental reviews undertaken during the designation of such corridors.”

Section 368(d) of the Act provides the Agencies with an outline of the goals of the Section 368 energy corridors: “* * * in carrying out this section, the Secretaries shall take into account the need for upgraded and new electricity transmission and distribution facilities to—(1) Improve reliability; (2) relieve congestion; and (3) enhance the capability of the national grid to deliver electricity.”

It is important to note that the designated Section 368 corridors would not themselves authorize development. Rather, designating the Section 368 corridors and amending relevant land use plans would constitute an administrative action that simply identifies the Agencies' preferred location for future development of energy transport projects. The Agencies also intend to improve coordination among the Agencies and to develop Interagency Operating Procedures (IOPs) to increase their efficiency in reviewing applications for projects within the Section 368 corridors.

Within the 39 States addressed by the proposed action, the Federal government owns 21.2% of the total land area with the FS, DOD, U.S. Fish and Wildlife Service, and National Park Service being the principal land stewards. Federal land comprises a small percentage of the 39 States in comparison with the high percentage of Federal land in the 11 Western States. Only 4.8% of the total land area within the 37 contiguous States and 8.9% of Hawaii is Federal land whereas about 50% of the 11 Western states are Federal lands. Alaska, whose land area is 58.1% Federal, is the one notable exception.

As opposed to the 11 Western States, where development on Federal land is clearly necessary to improve energy delivery to population centers, it is unclear that Section 368 corridors in all 39 States, particularly those with relatively few acres of Federal land, would improve energy delivery significantly enough to warrant their designation. The Agencies hope to receive comments from the general public, Tribes, States, and industry, during the NEPA process, to help identify not only environmental considerations relevant to designating Section 368 corridors but also where designated Section 368 corridors would serve the broad goal of improving energy delivery.

The Agencies are providing detailed information concerning Federal lands in the 39 States at the project's Web site: eastcorridoreis.anl.gov. This information includes location maps, existing infrastructure on Federal lands, acreage tabulations and links to additional sites such as the United States Geological Survey National Atlas that contain printable State maps showing Federal lands. Comments on this ANOI, particularly those that help identify potential locations for Section 368 corridors, will inform the Agencies' decision on where to hold public scoping meetings after issuing a Notice of Intent to prepare the PEIS.

Proposed Action and Alternatives

The Proposed Action in this PEIS is to identify and designate Section 368 corridors and incorporate them into the applicable land use or equivalent plans on Federal lands within 39 States for oil, gas, and hydrogen pipelines and electricity transmission and distribution facilities. These designated Section 368 corridors would be the preferred location for future energy right-of-way (ROW) project development. It should be noted that Section 368 applies only to Federal lands.

At the outset, it is important to understand the distinction between a linear infrastructure ROW and the Section 368 corridors. An ROW is a land use authorization to allow construction and operation of a specific energy transport project on identified Federal lands. In contrast, a Section 368 corridor would not authorize any energy transport projects. It would identify Federal lands where the construction, operation or upgrade of one or more energy transport projects is preferred. As guided by the Federal Land Policy and Management Act of 1976 (FLPMA), Section 368 corridors would assist in minimizing adverse impacts and the proliferation of separate ROWs (which could be consolidated into a single Section 368 corridor). The Section 368 corridors would constitute a planning tool.

The Proposed Action would not authorize project activities. When a specific project such as construction of a new pipeline or electric transmission line or retrofitting utilities within a Section 368 corridor is proposed, the proponent would apply for an ROW and the project would be subject to site-specific NEPA analysis, which would include public comment. The Agencies believe that the PEIS will supply information that the Agencies can reference, as appropriate, in the event that they prepare site-specific NEPA documents to support a request for an ROW.

The Draft PEIS will analyze at least three alternatives, including: (1) A No Action Alternative; (2) designation of existing ROWs as Section 368 corridors (Existing ROW Alternative); (3) designation of existing ROWs and routes where there are no ROWs as Section 368 corridors (New Corridors Alternative). The information received as a result of this notice and future public scoping may result in additional alternatives being evaluated.

No Action Alternative

Under the No Action Alternative, Section 368 corridors would not be designated on Federal lands in any of the 39 States; the siting and development of energy transport projects would continue under current agency procedures for granting ROWs; and energy transport project applicants would have to satisfy the often disparate application requirements of multiple agencies for the same project. There would be relatively little coordination for siting and permitting these projects to meet current and future energy needs in the 39 States.

The parts of the PEIS that discuss the No Action Alternative would identify the environmental impacts associated with each of the Agencies continuing to issue ROWs pursuant to their present practices. These practices would include the application of local planning criteria by each Federal land management office. Local planning criteria may not include the specificity required by Section 368 to, at a minimum, specify the centerline, width, and compatible uses of a corridor.

Existing ROW Alternative

Under this alternative, the Agencies would review existing ROWs and, if suitable, designate these ROWs as Section 368 corridors and incorporate those Section 368 corridors through amendment into relevant land use and resource management plans. These Section 368 corridors would constitute preferred locations for future ROWs for projects on Federal lands. The PEIS would identify the environmental impacts, if any, associated with each of the Agencies designating the Section 368 corridors and amending relevant land use and resource management plans.

New Corridors Alternative

Under the New Corridors Alternative, the Agencies would designate as Section 368 corridors the existing ROWs together with newly designated Section 368 corridors. These Section 368 corridors would comprise preferred locations for future ROWs on Federal lands.

Based upon the information and analyses developed in this PEIS, if an Agency decides to implement an action alternative, the Agency would issue a Record of Decision (ROD) to designate a series of Section 368 energy corridors by amending the appropriate land use plans.

Potential Section 368 Corridor Screening Criteria

The following represent screening criteria that could help identify the preferred locations of Section 368 corridors. The screening criteria would be used to identify both presumptively suitable land for future development of energy transport projects and land use considerations that potentially influence the designation of these Federal lands as Section 368 corridors.

Existing ROWs

(1) Locally designated utility corridors identified in land use plans pursuant to FLPMA; (2) Utility ROWs in current use (built before 1969); (3) ROWs in current use (built after 1969); (4) Related ROW use (e.g. transportation easement); and (5) Existing deeded easements for electrical transmission lines.

Land classifications that could restrict designation of Section 368 corridors, including those Federal lands of ecological, cultural, scientific, educational or recreational resources:

(1) Wilderness areas including study, eligible, proposed, recommended, or designated wilderness area; (2) Wild and scenic rivers; (3) National Park Service Units (designated as Parks, Monuments, Preserves/National Reserves, Historic Sites, Historical Parks, Military Parks, Memorials, Battlefields, Cemeteries, Recreation Areas, Seashores, Lakeshores, Rivers/Scenic Rivers, Parkways, Trails); (4) National wildlife refuges; (5) National Monuments; (6) Roadless areas; (7) National natural landmarks; (8) National conservation areas; (9) Areas of critical environmental concern; (10) World heritage sites; (11) Research natural areas; (12) Experimental forests; (13) Paleontological resource sites; (14) Military installations/training and testing areas; (15) DOD special use air space; (16) Citizen proposed wilderness areas; (17) National Historic Register sites; (18) Critical habitat for threatened, endangered or candidate species; (19) Citizen proposed wilderness study areas; and (20) Native American cultural resource sites.

Identification of Environmental Issues

The purpose of this ANOI is to solicit comments and suggestions for consideration in the preparation of the PEIS and to help inform the Agencies on where to hold scoping meetings following the issuance of an NOI. As background for public comment, this advance notice contains a list of potential environmental issues that the Agencies have tentatively identified for analysis. This list is not intended to be all-inclusive or to imply any predetermination of impacts, nor does it imply that there are direct, indirect or cumulative impacts from the Proposed Action. The following is a preliminary list of issues that may be analyzed in the PEIS: (1) Impacts on existing and future land uses; (2) Socioeconomic and recreational impacts of future development of ROWs and their subsequent use; (3) Impacts of future development on protected, threatened, endangered, or sensitive species of animals or plants, or their critical habitats; (4) Impacts on floodplains and wetlands; (5) Impacts on archaeological, cultural, or historic resources; (6) Impacts on human health and safety; (7) Visual impacts; and (8) Disproportionately high and adverse impacts on minority and low-income populations, also known as environmental justice considerations.

PEIS Process

Interested parties are invited to participate in the PEIS process, both to refine the preliminary alternatives and environmental issues to be analyzed in depth and to eliminate from detailed study those alternatives and environmental issues that are not reasonable or pertinent. The Agencies plan to issue a NOI by the end of 2008, which will be followed by a public scoping period. The scoping process is intended to involve all interested agencies (Federal, State, county, and local), public interest groups, Native American Tribes, businesses, and members of the public.

Draft PEIS Schedule and Availability

The Agencies plan to issue a Draft PEIS in 2009. The availability of the Draft PEIS and dates for public hearings to receive comments on it will be announced in the Federal Register and local media. The Agencies will consider comments on the Draft PEIS when they prepare the Final PEIS. Interested parties who do not wish to submit comments or suggestions at this time, but who would like to receive a copy of the Draft PEIS and other project materials, please contact Brian Mills as provided in the ADDRESSES section of this notice.

Issued in Washington, DC, on September 29, 2008.
Kevin M. Kolevar,
Assistant Secretary, Electricity Delivery and Energy Reliability, Department of Energy.

[FR Doc. E8-23475 Filed 10-2-08; 8:45 am]

BILLING CODE 6450-01-P